DEPARTMENT OF COMMERCE

National Oceanic and Atmospheric Administration

[I.D. 111204C]

Marine Mammals; File Nos. 1034-1685 and 1065-1749

AGENCY: National Marine Fisheries Service (NMFS), National Oceanic and Atmospheric Administration (NOAA), Commerce.

ACTION: Issuance of permit amendment and new permit.

SUMMARY: Notice is hereby given that Dr. Markus Horning, Texas A&M University, Laboratory for Applied Biotelemetry and Biotechnology, Department of Marine Biology, 5007 Avenue U, Galveston, TX 77551 has been issued an amendment to scientific research Permit No. 1034-1685 and Dr. Patrick Butler, University of Birmingham, School of Biosciences, Edgbaston, Birmingham, United Kingdom has been issued Permit No. 1069-1749.

ADDRESSES: The permit, permit amendment and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Amy Sloan or Tammy Adams, (301)713-2289.

SUPPLEMENTARY INFORMATION: On June 18, 2004, notice was published in the Federal Register (69 FR 34138) that the above-named individuals had applied for an amendment of Permit No. 1034-1685, issued on March 17, 2003 (68 FR 20117), and a new permit (File No. 1065-1749), respectively. The requested permit amendment and new permit have been granted under the authority of the Marine Mammal Protection Act of 1972, as amended (16 U.S.C. 1361 et seq.), and the Regulations Governing the Taking and Importing of Marine Mammals (50 CFR part 216).

The permit amendment, Permit No. 1034-1685-01, authorizes the study of the adrenal response of California sea lions (Zalophus californianus). A total of up to six sea lions undergoing rehabilitation at The Marine Mammal Center (TMMC), Sausalito, CA, may be injected intramuscularly with adrenocorticotropic hormone and have pre-injection and post-injection blood samples taken while under anesthesia for analysis of glucocorticoids. Feces may also be collected for analysis.

Permit No. 1065-1749 authorizes development and monitoring trials of a surgically implantable heart rate logger in California sea lions, northern elephant seals (Mirounga angustirostris), and northern fur seals (Callorhinus ursinus) undergoing rehabilitation at TMMC. The permit authorizes surgical implantation and removal of the device in up to six animals of each species per year. The permit also authorizes mortality incidental to the study of up to two animals total, of any species, over the five-year course of the permit.

In compliance with the National Environmental Policy Act of 1969 (42 U.S.C. 4321 et seq.), a final determination has been made that the activities proposed are categorically excluded from the requirement to prepare an environmental assessment or environmental impact statement.

Dated: November 22, 2004.
Stephen L. Leathery,
Chief, Permits, Conservation and Education Division, Office of Protected Resources, National Marine Fisheries Service.

[FR Doc. 04-26412 Filed 11-29-04; 8:45 am]

BILLING CODE 3510-22-S